DEPARTMENT OF TRANSPORTATION

Federal Aviation Administration

14 CFR Part 71

[Docket No. FAA-2012-1168; Airspace Docket No. 07-AWA-3]

RIN 2120-AA66

Modification of the Dallas/Fort Worth Class B Airspace Area; TX

AGENCY: Federal Aviation Administration (FAA), DOT.

ACTION: Final rule.

SUMMARY: This action modifies the Dallas/Fort Worth, TX, Class B airspace area to ensure containment of large turbine-powered aircraft flying instrument procedures to and from the Dallas/Fort Worth International Airport (DFW) and Dallas Love Field Airport (DAL) within Class B airspace. The FAA is taking this action to further support its national airspace redesign goal of optimizing terminal and en route airspace areas to enhance safety, improve the flow of air traffic, and reduce the potential for near midair collision in the DFW terminal area.

DATES: Effective Date: 0901 UTC, March 6, 2014. The Director of the Federal Register approves this incorporation by reference action under 3 CFR part 51, subject to the annual revision of FAA Order 7400.9 and publication of conforming amendments.

FOR FURTHER INFORMATION CONTACT: Colby Abbott, Airspace Policy and Regulations Group, AJV-11, Office of Airspace Services, Federal Aviation Administration, 800 Independence Avenue SW., Washington, DC 20591; telephone: (202) 267-8783.

SUPPLEMENTARY INFORMATION:

History

On January 22, 2013, the FAA published in the Federal Register a notice of proposed rulemaking (NPRM) to modify the Dallas/Fort Worth, TX, Class B airspace area (78 FR 4356). This action proposed to expand the lateral and vertical dimensions of the Dallas/Fort Worth Class B airspace area to provide additional airspace needed to contain large turbine-powered aircraft flying instrument procedures to and from the Dallas/Fort Worth International Airport (DFW) and Dallas Love Field Airport (DAL) within Class B airspace. The NPRM noted that large turbine-powered aircraft routinely entered, exited, and then re-entered Class B airspace while flying published instrument approach procedures to DFW runway13R and DAL runways 13L/13R and 31R/31L, which is contrary to FAA policy.

Interested parties were invited to participate in this rulemaking effort by submitting written comments on the proposal. A total of 73 responses to the NPRM were received; of which, 13 responses opposed the proposed action and did not provide any rationale or information for consideration. On April 25, 2013, and subsequent to the close of the public comment period, the FAA received an inquiry from two Congressional members requesting that the FAA withdraw the NPRM and consider the alternative solution submitted by a commenter to the NPRM. This inquiry was added to the docket (making 74 responses total) and considered along with the responses received during the comment period. The FAA considered all substantive comments received before making a determination on the final rule.

Discussion of Comments

Of the 74 responses received to the NPRM, 61 concerned the airspace in the vicinity of Addison Airport (ADS). All of these commenters opposed the proposed modification to Area F, contending that it would result in lower flight paths for DAL arrivals and ADS arrivals and departures, and lead to various adverse impacts such as compression of VFR aircraft, safety of flight issues, increased noise, air pollution and health issues, lower property values, detrimental effect on local businesses, and decreased commerce at ADS.

The above perceived impacts appear to be based on the belief that the Class B airspace modification would lead to an increased number of IFR and VFR flights operating at lower altitudes than they do today. This is incorrect. The Class B airspace modifications, including Area F, are based on the need to contain existing large turbine-powered IFR aircraft that are now operating below Class B airspace. It is important to note that existing DAL IFR arrival and departure operating altitudes, flight paths, traffic patterns, and procedures will not change. As stated in the NPRM, the Area F modification will continue to support IFR and VFR aircraft arriving and departing ADS as they do today without compression and ensure large turbine-powered aircraft flying instrument procedures to DAL runways 13L/13R are contained within Class B airspace.

Five commenters argued that the FAA should not lower the Class B airspace over the entire Addison Class D airspace area. They believed it would create an unsafe condition with arrivals and departures to from ADS from the north and east would be forced to operate at the same, or close to the same altitudes; create the possibility of unintentional airspace incursions; and have operational issues associated with separation from the existing DAL traffic patterns at 1,600 feet MSL and 2,000 feet MSL. Additionally, one of the commenters also argued that lowering the entire ADS Class D airspace to a 2,500-foot MSL ceiling under the 3,000-foot MSL Class B airspace floor would result in a wedge of uncontrolled airspace above ADS to the north and east.

As noted in the NPRM, the FAA reduced the lateral dimensions of Area F over the ADS Class D airspace to only extend from the 10-nautical mile (NM) arc from the Point of Origin to the 13-NM arc from the Point of Origin; matching the outer boundary with the adjacent Area B outer boundary at 13-NM arc from the Point of Origin, and not overlay the entire ADS Class D airspace. The ADS Class D airspace beyond the 13-NM arc is unchanged and the existing 3,000-foot MSL ceiling is unaffected by this rule. By lowering only the portion of Class B airspace necessary to contain aircraft flying instrument procedures to DAL within Class B airspace [Area F] and retaining the existing arrival/departure traffic flows, altitudes, and procedures, the concerns that the ADS arrival/departure aircraft from the north and east would be operating at the same altitudes are addressed. ADS arrival and departure aircraft will be unaffected and are not expected to create any unintentional Class B incursions or impact the two existing ADS traffic patterns. Finally, the ADS Class D airspace beyond the 13-NM arc of the Point of Origin will remain unchanged by this airspace action.

Thirty commenters stated that VFR flights operating at ADS would be compressed as a result of establishing Area F with a 2,500 feet MSL floor over a portion of the ADS Class D airspace. They further argue that this compression into less airspace at ADS, below Area F, could result in the loss of operational flexibility and options for VFR aircraft to vary from air traffic control (ATC) recommended arrival and departure altitudes; the introduction of new flight safety hazards to VFR pilots forced to fly 500 feet lower; a greater potential for midair collision; and inadvertent incursions into Class B airspace through the Area F 2,500-foot MSL floor. Lastly, they contend that ADS departures at 2,000 feet MSL and arrivals at 2,500 feet MSL today would be forced to operate at the same (or close to the same) altitudes, which would reduce traffic separation for VFR pilots and introduce a greater possibility of wake turbulence due to more large aircraft flying at lower altitudes.

The primary purpose of a Class B airspace area is to reduce the potential for midair collisions in the airspace surrounding airports with high density air traffic operations by providing an area in which all aircraft are subject to certain operating rules and equipment requirements. FAA directives require Class B airspace areas be designed to contain all instrument procedures, and that air traffic controllers vector aircraft as appropriate to remain within Class B airspace after entry.

The FAA recognizes that VFR pilots electing to fly below the floor of Class B airspace may be compressed. However, the airspace designated as Area F with a 2,500-foot MSL floor over the ADS Class D airspace is necessary to contain the large turbine-powered aircraft flying instrument procedures to/from DAL within Class B airspace. The Dallas/Fort Worth terminal area encompasses DFW (third busiest airport in the U.S. with over 646,800 airport operations in 2011), DAL (over 179,190 airport operations in 2011), ADS (over 91,120 airport operations in 2011), plus numerous other airports situated in and around the terminal area. These airport operations create a complex, high density airspace environment containing a highly diverse mix of aircraft types and aviation activities. In some areas, large turbine-powered aircraft and non-participating VFR aircraft are flying simultaneously in the same airspace. It is essential to segregate the large turbine-powered aircraft arriving/departing DFW/DAL and the non-participating VFR aircraft in the vicinity of ADS, who may not be communicating with ATC.

Additionally, it must be noted that there are no planned changes to existing flight paths, altitudes, or procedures supporting ADS IFR/VFR arrivals and departures. Due to the high volume of VFR traffic mixed with IFR corporate aircraft, the Dallas Terminal Radar Control (TRACON) (D10) will continue to sequence all arrivals to ADS. Aircraft on the downwind also will continue to be sequenced inbound at 2,500 feet MSL while IFR departures will be climbing to 2,000 feet MSL. VFR aircraft will be assigned 2,000 feet MSL altitude initially until conflicts between arrivals and departures are resolved. ADS departures (IFR/VFR) will continue to be issued a 050 degree heading at 2,000 feet MSL to avoid a tower located 8-miles east of ADS with a minimum vectoring altitude (MVA) restriction of 2,200 feet MSL. While this obstruction reduces multiple headings that could be used for departing and arriving aircraft, the use of additional altitude segregation by local procedures ensure flight safety in the area. VFR aircraft in the ADS Class D airspace will continue to receive traffic advisories.

Consequently, some non-participating VFR aircraft may have to fly further, or at different altitudes, in order to remain clear of the modified Class B airspace. Ultimately, it is the pilot's responsibility to evaluate all factors that could affect a planned flight and determine the safest course of action whether it is circumnavigating the Class B airspace, flying over or beneath the Class B airspace, utilizing a charted VFR flyway, or requesting Class B clearance and services from D10.

Seven commenters recommended that the FAA move the Area F outer boundary over the ADS Class D airspace to an 11.5-NM arc of the Point of Origin instead of the 13-NM mile arc that was proposed. The requested boundary move would lower Class B airspace to 2,500 feet MSL west of ADS only and was considered a reasonable alternative by the commenters attempting to minimize the compression concerns while containing the majority of large turbine-powered aircraft flying instrument procedures to DFW and DAL within Class B airspace. Three commenters asserted that the FAA's own radar data slides presented at the Informal Airspace Meetings suggested that there was no need to lower the Class B airspace floor east of ADS. One commenter stated that moving the Area F outer boundary to an 11.5-NM arc from the Point of Origin was consistent with the recommendation of the Ad Hoc Committee and would provide easily-identified landmarks to aid VFR pilots in identifying the boundary of the lowered Class B airspace; whereas, the FAA's own proposal provided no such visual references for VFR pilots.

To address the counter-proposal submitted by the commenters to limit Area F to an area between the 10-NM and 11.5-NM arcs from the Point of Origin, the FAA accomplished new radar track data analysis and modeling for DAL arrivals flying over the ADS Class D airspace. The FAA determined that, on average, 209 aircraft per day landed at DAL from the east over the ADS Class D airspace and an average of 130 aircraft per day descended below 3,000 feet MSL over ADS between the 10-NM and 13-NM arcs from the Point of Origin. Of those 130 aircraft, an average of 60 aircraft per day (approximately 45 percent) descended below 3,000 feet MSL outside an 11.5-NM arc from the Point of Origin. Therefore, if Area F was limited to between the 10-NM and 11.5-NM arcs from the Point of Origin, as recommended by the commenters, only 70 (out of 130) aircraft arriving to DAL each day, on average, would be contained within Class B airspace and 60 aircraft arriving to DAL each day, on average, would continue to descend below Class B airspace into the ADS Class D airspace area. Moving the outer boundary of Area F to an 11.5-NM arc from the Point of Origin would not ensure containment of all large turbine-powered aircraft flying instrument procedures to and from DFW and DAL, as intended by this rule.

Because of the close proximity of the DFW, DAL and ADS airports, access to the congested airspace northeast of DFW for aircraft not landing or departing one of these airports is very limited. The FAA determined that the number of VFR aircraft flying in the ADS Class D airspace and not receiving any ATC flight services reached 2,500 feet MSL in Area F less than twice per day, on average. The modeling also revealed that aircraft landing and departing ADS, using existing procedures, remained below the floor of Area F.

The FAA has confirmed that establishing Area F, between the 10 NM and 13 NM arcs from the Point of Origin, will contain all the DAL arrival aircraft conducting instrument procedures within Class B airspace and that the 2,500-foot MSL Class B airspace floor will not affect ADS IFR and VFR arrivals, departures, traffic flows, or departure release procedures. Although the FAA is reclassifying a small portion of the ADS Class D airspace to become part of Area F, the operational procedures used today by the ADS tower and D10 will remain unchanged. Access to ADS by VFR aircraft is also not impacted by Area F because it is shadowed by existing Class B airspace (being renamed Area C) with a 2,000 foot MSL floor from the southeast clockwise to the north-northwest of ADS and by the existing Class B surface area (Area A) from the southeast clockwise to the west-northwest of ADS. VFR aircraft, not in contact with D10, that are arriving or departing ADS must avoid Area C and the surface area that surround ADS from the southeast clockwise to the north-northwest before Area F with its 2,500-foot MSL floor becomes a factor.

Lastly, the FAA acknowledges that the 13-NM arc from the Point of Origin used to define the outer boundary for Area F does not share the same opportunity for prominent visual landmarks as the counter-proposal submitted by the commenters. The FAA remains supportive of using prominent landmarks, when available, to describe airspace boundaries. However, matching the outer boundary of Area F with the 13-NM arc outer boundary of Area B has benefit too; it avoids potential confusion for pilots faced with multiple arcs in a relatively confined area to define differing Class B airspace subarea boundaries.

Three comments concerned lowering the floors of two areas of Class B airspace southeast of DFW, Area D and Area I, to contain large turbine-powered aircraft during arrival procedures to DAL runways 31L/31R. Two of the commenters were concerned with compression and circumnavigation associated with transitioning the area east and west around Dallas Executive Airport (RBD) and Mesquite Airport (HQZ) (being renamed Mesquite Metro Airport) past Area D lowered to 2,000 feet MSL between the 15-NM and 20-NM arcs of the Point of Origin and Area I lowered to 3,000 feet MSL between the 20-NM and 25-NM arcs of the Point of Origin. One of these commenters added that lowering the Class B airspace in this area reduces the separation between transitioning aircraft and the aircraft operating at HQZ. The commenter argued aircraft overflying uncontrolled airports are not required to monitor frequencies at those locations and that would increase the potential for loss of situational awareness and potential for a midair collision among VFR pilots flying below Area D and Area I, but over HQZ. The commenter suggested that the amount of traffic surrounding HQZ demanded immediate attention for establishing Class D airspace around HQZ. The third commenter argued that Area D and Area I were unnecessary and addressed instrument procedure glideslope corrections, that are address later in this rule.

The FAA recognizes that VFR pilots electing to fly below the floor of Class B airspace may be compressed. However, the Dallas/Fort Worth Class B airspace Area D and Area I subareas, with 2,000-foot MSL and 3,000-foot MSL floors, respectively, are necessary to contain large turbine-powered aircraft flying instrument procedures to/from DAL within Class B airspace and to segregate them from the VFR aircraft flying outside Class B airspace. Non-participating VFR general aviation aircraft have their choice of flying either above or below the Class B airspace, or circumnavigating it by five to ten NM further southeast to remain clear should they decide not to contact D10 to receive Class B services.

As mentioned before, it is ultimately the pilot's responsibility to evaluate all factors that could affect a planned flight and determine the safest course of action whether it is circumnavigating the Class B airspace, flying over or beneath the Class B airspace, utilizing a charted VFR flyway, or requesting Class B services from D10.

The FAA agrees with the commenter that suggested establishing Class D airspace around HQZ in the interest of flight safety. As such, the FAA built a control tower at HQZ, which began providing limited traffic advisory services in December of 2013, and published a final rule in the Federal Register (78 FR 67296, November 12, 2013) establishing Class D airspace around HQZ with an effective date of February 6, 2014. The Class D airspace area extends upward from the surface up to but not including 2,000 feet MSL, within a 3.5-mile radius of the Mesquite Metro Airport, Mesquite, TX, with an extension from the 3.5-mile radius to 4.1-miles south of the airport. The Mesquite, TX, Class D airspace area and control tower, when open, will enhance the safety and management of IFR and VFR operations at the airport with transient traffic around HQZ.

Twenty six comments were received expressing flight safety concerns associated with lowering the Class B airspace over ADS. Many of the commenters alleged that the lower Class B airspace of Area F over ADS, and the corresponding reduction of ADS Class D airspace, would negatively impact the overall operational safety of the single engine VFR operations at ADS. Eight commenters stated the limited amount of available altitude in case of low-altitude emergencies raised the risk of aircraft accidents. Seven commenters raised safety related concerns as a result of their perceived reduction in vertical separation options for aircraft operating at ADS. Four commenters argued there were already numerous close calls at ADS and the reduced airspace under Area F invited an increase in midair collisions. Three commenters criticized that limited inbound and outbound routes to and from ADS would be further constrained; whereas, one commenter each contended the lower Class B airspace would force VFR aircraft to fly below the 1,000-foot above ground level requirement over congested areas, would induce more “head down” operation and less “see and avoid” procedures, and would put VFR aircraft at risk of cell towers and other low-altitude obstructions near ADS.

The FAA disagrees with the flight safety related concerns presented by the commenters because no arrival or departure flight paths, altitudes, or operational procedures for IFR and VFR aircraft flying to/from DAL or ADS are being changed as a result of Area F. Again, the commenters' perceived flight safety impacts appear to be based on the belief that the Area F Class B airspace modification over ADS would lead to an increased number of IFR and VFR flights operating at lower altitudes than they do today. Due to the high volume of VFR and IFR aircraft operating in the vicinity of ADS, D10 will continue to sequence all arrivals and departures to and from ADS.

Mixing DAL IFR arrivals and VFR aircraft outside the Class B airspace presents a hazard to safety. This rule addresses the safety impact of large turbine-powered aircraft arriving to DAL that routinely entered, exited, and then re-entered Class B airspace, while being vectored and flying instrument procedures to DAL runways 13L/13R over ADS, as well as to DAL runways 31L/31R from the southeast. The FAA believes that the Class B design in this rule establishes the minimum Class B airspace required for containment of large turbine-powered aircraft flying instrument procedures to/from DFW and DAL, while leaving as much airspace as possible for IFR and VFR flight operations in the ADS area, outside Class B airspace.

Twenty-nine commenters raised noise concerns related to the Area F being established over a portion of the ADS Class D airspace area. Commenters stated, “increased noise pollution will reduce property values,” “increase noise will make it less desirable to dine outdoors in a community where restaurants are the largest contributor to sales tax,” “with the increase in air traffic planned for DAL, the frequency of jet traffic noise will increase to levels that are unacceptable,” and “this modification would create a significant increase in noise and general disturbance over a highly populated residential area.” One commenters also requested a new review and updated environmental impact study or noise study be accomplished since a long time had passed from when the Class B modifications were originally proposed.

The FAA does not agree because the Class B airspace being lowered over ADS is not associated with any changes to traffic flows, altitudes, or procedures; but rather, the containment of existing aircraft operations within Class B airspace. The FAA believes that the submitted noise concerns presume an increased number of aircraft would be overflying ADS and that aircraft would be flying at lower altitudes over the communities surrounding ADS. Aircraft are already flying in the areas and at the same altitudes they will be after Area F is established. The Class B airspace modification over ADS is being accomplished purely to contain existing large turbine-powered aircraft flying instrument procedures, and their associated traffic patterns, to/from DFW and DAL within Class B airspace. The Class B airspace modification over ADS is simply an airspace classification change from Class D to Class B and will not have any impact on noise.

The FAA completed its environmental review and Categorical Exclusion Declaration on May 1, 2013, in support of the Dallas/Fort Worth Class B airspace modifications. In accordance with FAA Order 1050.1, Environmental Impacts: Policies and Procedures, paragraph 311a, rulemaking actions that modify Class B airspace are categorically excluded from the requirement to prepare an environmental assessment or environmental impact statement. The FAA determined that there were no extraordinary circumstances that would necessitate further environmental review since the flight tracks and altitudes used will not change as a result of the Class B airspace modifications and aircraft will continue to fly the same flight tracks, patterns, and altitudes that they fly today. There are no adverse effects on any of the environmental impact categories required to be analyzed in accordance with FAA Order 1050.1, nor are there any cumulative impacts.

Eleven commenters argued lowering the Class B airspace over ADS would have a negative economic impact to ADS, the residents in the area, and to the North Dallas region. They were concerned that reclassifying a portion of ADS Class D airspace as Class B would impact ADS economically by serving as a disincentive to current/future ADS customers to remain at ADS and result in them going elsewhere less congested and impact local business success in the area. They were also concerned that the business and commerce attractiveness of ADS to businesses outside the Dallas County/North Texas region would be decreased and that lower property values of the residential communities surrounding ADS would result.

The FAA disagrees that establishing Area F over ADS will cause the economic impacts raised by the commenters. The Area F 2,500-foot MSL Class B airspace floor over the Addison Class D airspace area will have no effect on ADS IFR or VFR arrivals, departures, altitudes, traffic flows, or departure release procedures. Additionally, the IFR aircraft arriving and departing DFW and DAL will continue to fly the same flight tracks, patterns, and altitudes that they fly today.

As noted previously, Area F is shadowed by Area C, with its 2,000-foot MSL floor, and Area A, the surface area, from the southeast clockwise to the west-northwest of ADS. Any perceived aerial access impacts to ADS, caused by Area F, are overcome by the requirements for aircraft to avoid these previously existing Class B airspace subareas. Modeling did show that on average less than 3 VFR aircraft per day, squawking 1200, flew at lower altitudes for short periods of time, but these aircraft were determined to be VFR practice aircraft and not receiving sequencing ATC services for arrival or departure. As such, the FAA does not expect IFR or VFR operators to cease operating at ADS, does not expect IFR and VFR aircraft to fly lower than they currently do, and does not expect an increase in large turbine-powered aircraft operations at DAL. Therefore, the FAA does not find that Area F has any economic impact to the airport, the local community, or the North Dallas region, as argued by the commenters.

Two commenters offered that the need to lower Class B airspace to contain large turbine-powered aircraft could be averted by raising the glide paths for the Instrument Landing System (ILS) and Area Navigation (RNAV) approaches to DAL. One commenter also argued that DAL is not a primary airport of the Dallas/Fort Worth Class B airspace area and that lowering the Class B airspace southeast of DFW to contain aircraft flying DAL approaches is a misuse of aviation regulations. The commenter suggested raising the published altitudes on ILS and RNAV procedures to DAL runways 31L/31R (in essence raising the approach glideslopes from the standard 3 degree angle) to overcome DAL arrivals not being contained in Class B airspace. The second commenter's focus was the airspace over the Addison Class D airspace and simply requested the FAA consider raising the approach procedure glideslopes to DAL runways 13L/13R before seeking an airspace solution to containing DAL arrival aircraft within Class B airspace.

The FAA acknowledges that DAL is not listed as a primary airport in the Dallas/Fort Worth Class B airspace description, but disagrees that it is inappropriate to lower the Class B airspace southeast of DFW to contain the aircraft flying instrument procedures to DAL within Class B airspace. As noted in the NPRM, the FAA revoked the Airport Radar Service Area (ARSA) surrounding DAL and incorporated the airport and its airspace into the surface area of the Dallas Fort-Worth Terminal Control Area (TCA) [Class B airspace today] in 1992. The FAA took this action in the interest of flight safety as a result of the complex mix of aircraft operating in the Dallas/Fort Worth terminal flying environment and to lower the risk of midair collisions in the airspace around DFW and DAL; thereby reducing the chance of casualty loss (i.e. aviation fatalities and injuries). Revoking the DAL ARSA and making the airspace part of the Dallas-Fort Worth TCA was expected to result in increased safety in the entire TCA [Class B airspace today] and it has. As such, the FAA continues to consider the midair collision avoidance and airspace requirements associated with Class B airspace to apply to the operations at DFW and DAL, when addressing the Dallas/Fort Worth terminal airspace area.

The FAA re-evaluated the suggestion to raise the ILS and RNAV approach procedure glideslopes into DAL and does not agree. Raising the existing 3 degree approach procedure glideslopes, in lieu of lowering Class B airspace, was considered previously when the proposal was developed and in response to pre-NPRM public input. In order to retain the current traffic flows in Class B airspace without the proposed modifications, the instrument procedure glideslope angles to the DAL runways 13L/13R and 31L/R would have to be raised in excess of 3.1 degrees; resulting in the loss of approach minimums for category D and E aircraft. A 3 degree glideslope angle for instrument procedures is the standard for safety.

Another commenter suggested the need for lower Class B airspace floors could be addressed by raising the glide paths for the instrument approaches to DAL using an extension of the Optimized Profile Descent for the close-in terminal area and creating a two-stage glideslope approach. The commenter offered that by flying an average 6 degree descent angle initially, aircraft would no longer be forced to fly shallow paths to the airport. Then, since jets are not as responsive as light general aviation aircraft, the aircraft would transition to a standard 3 degree glide path at some pre-determined distance from the runway, most likely 1,500 feet to 1,000 feet AGL and 1 NM prior to passing the final approach fix.

This suggestion for a two-stage glideslope approach would require a revision of instrument flight procedures and the development of new or additional glideslope equipment, which may not be technically feasible and/or may involve flight safety issues. As such, it is outside the scope of this rule.

Five commenters were concerned that lower Class B airspace, primarily over ADS, would cause a related increase in ATC workload to ensure flight safety. One commenter asserted that the lower Class B airspace floors would force pilots to participate with D10, which often time could not handle the load they already have, while another commenter stated that sometimes controllers are too busy to offer clearances through the Class B airspace. A third commenter was concerned that the lower Class B airspace at ADS would result in more departure holds, as well as increased vectoring for arrivals and departures to and from ADS.

The FAA remains committed to providing Class B airspace services to all National Airspace System (NAS) users operating in the airspace surrounding DFW, DAL, and ADS in a manner that keeps the Dallas/Fort Worth terminal area safe for all users. As mentioned earlier, the primary purpose of a Class B airspace area is to reduce the potential for midair collisions in the airspace surrounding airports with high density air traffic operations by providing an area in which all aircraft are subject to certain operating rules and equipment requirements.

Based on historical data and forecast trends, the average D10 daily traffic count includes 1,515 air carrier, 764 air taxi, 445 general aviation, 51 military IFR operations and 421 VFR operations. In 2012, D10 provided Class B services to approximately 200 VFR aircraft operations per day. When VFR aircraft request Class B services, they are initially told to remain outside the Class B airspace until radar identification is established; oftentimes, this is misunderstood as denial of Class B services. D10 routinely provides Class B airspace clearances and services to VFR aircraft requesting access into and through the Dallas/Fort Worth Class B airspace on a workload permitted basis when the arrival/departure traffic volume and airspace capacity conditions enable doing so safely. Lastly, it should be noted that the existence of Class B airspace has no impact on IFR delays or aircraft vectoring, the determining factors for these activities are normally traffic volume and weather.

Three commenters suggested that the FAA should establish VFR routes through the Dallas/Fort Worth Class B airspace area over Dallas and Fort Worth to retain efficiency, safety and access for all operators. Two of the commenters offered that the transition routes would allow VFR aircraft to navigate through the Class B airspace without adding additional burden to the controllers and provide a predictable routing for the VFR pilots. The third commenter stated that flying the existing VFR transition routes is very time consuming and involves flying in congested airspace, and that the routes are exceedingly frustrating to transition safely and legally given the number of Class D and uncontrolled airports that must be transitioned.

The FAA interpreted the commenters' suggestion to mean they were recommending VFR corridors through the Class B airspace area and acknowledges that VFR corridors provide general aviation flight paths for pilots planning flights into, out of, or through complex terminal airspace so as to avoid Class B airspace. However, the FAA has determined establishing VFR corridors over DFW and DAL through the Class B airspace surface area is not feasible and would result in adverse impacts to the arrival and departure flows, and associated traffic patterns, supporting DFW and DAL operations. Specifically, DFW and DAL fan departures off their airports covering as much as 220 degrees around the compass in a north flow and 250 degrees around the compass in a south flow. Depending upon the runway configuration in use, low altitude VFR corridors, as suggested, would conflict with the over 1,250 departures from DFW and DAL daily, on average, and force departures to be restricted below the corridor altitude(s) until clear of the corridor. Additionally, the geographic relationship between DFW, DAL, and ADS, as well as HQZ, RBQ, Grand Prairie, Arlington, Ft Worth Meacham International, and Ft Worth Alliance airports, with their arrival and departure flows, does not support establishing VFR corridors through the Dallas/Fort Worth Class B airspace area.

The FAA recognizes that using the existing flyways takes more time to fly around the DFW and DAL area than flying directly through it, but does not agree that the existing VFR flyways are difficult to transition safely or legally. The Class B airspace floors over the low altitude VFR flyways are not changing and the flyways remain unaffected by this rule. There are two VFR flyways that route north and south, one located east and one located west of DFW and DAL, and four VFR flyways that route east and west, two located north and two located south of DFW and DAL. These six VFR flyways surround DFW and DAL and provide both low and high altitude route alternatives to circumnavigate the Class B airspace area for those pilots that opt not to request ATC services through Class B airspace from D10.

Bell Helicopter requested that the FAA modify the Class B airspace surface area, Area A. Bell Helicopter advised that they plan to move their training area back to an area southwest of DFW, near where they previously conducted helicopter training, and expand their facility to support a training program conducting 3,500 flight hours per year. They requested the FAA modify the Class B airspace surface area to exclude a portion of airspace southwest of DFW extending upward from the surface to and including 1,500 feet MSL in the area south of State Highway 10 and west of the Texas Star Golf Course. The requested exclusion would support a helicopter training area near the area Bell Helicopter operated at from the mid 1970's through 2006.

The FAA evaluated Bell Helicopter's request and determined that the Class B airspace surface area modification can be incorporated, as requested, without compromising the containment of large turbine-powered IFR aircraft conducting instrument procedures within Class B airspace. As a result of Bell Helicopter's modification request and details of their impending helicopter training program, the FAA is modifying the Dallas/Fort Worth Class B airspace surface area to include an exclusion of airspace as described below in the “Difference From the NPRM” section. This modification supports Bell Helicopter's returning training program in the area; enables ATC to stay focused on the arrival, departure, and overflight aircraft operating in the DFW terminal area; addresses ATC frequency congestion issues; and reduces the potential for unauthorized airspace incursions without impacting the containment of large turbine-powered IFR aircraft conducting instrument procedures within Class B airspace.

Differences From the NPRM

The description of the subarea A has been modified from that proposed in the NPRM. In light of public input, the FAA evaluated a request to exclude a portion of airspace located southwest of DFW from the Class B airspace surface area and determined the airspace exclusion could be incorporated without effecting containment of large turbine-powered aircraft flying instrument procedures to and from DFW and DAL within Class B airspace. This is accomplished by excluding the a small portion of airspace located southwest of DFW, bounded by the surface area boundary, State Highway 10, and the western boundary of the Texas Star Golf Course, from the surface to and including 1,500 feet MSL, from Area A. The revised surface area description is listed in the “Adoption of the Amendment” section, below.

The Rule

The FAA is amending Title 14 of the Code of Federal Regulations (14 CFR) part 71 to modify the Dallas/Fort Worth, TX, Class B airspace area. This action lowers the floor of Class B airspace in four areas, redefines the northern boundary, and incorporates an exclusion of a small area of airspace within the Class B surface area. The first area, Area J lowers a portion Class B airspace located northwest of DFW between 23-NM and 30-NM arcs from the Point of Origin from 5,000 feet MSL to 4,000 feet MSL. The second area, Area F, lowers a portion of Class B airspace northeast of DFW between the 10-NM and 13-NM arcs from the Point of Origin from 3,000 feet MSL to 2,500 feet MSL. The third area, Area D, lowers a portion of Class B airspace located southeast of DAL between the 15-NM and 20-NM arcs from the Point of Origin from 2,500 feet MSL to 2,000 feet MSL. And, the fourth area, Area I, lowers a portion of Class B airspace located southeast of DAL between the 20-NM and 25-NM arcs from the Point of Origin from 4,000 feet MSL to 3,000 feet MSL. This action also redefines the northern boundary of the Class B airspace area using the Ray Roberts Lake dam. Lastly, in response to public input to the NPRM, an exclusion of a small portion of airspace located southwest of DFW is incorporated in the Class B airspace surface area. The Class B airspace ceiling remains unchanged. These modifications to the Dallas/Fort Worth Class B airspace area provide the minimum airspace necessary to contain existing large turbine-powered aircraft flying the instrument procedures to and from DFW and DAL within the confines of Class B airspace.

Except for Area A, which extends upward from the surface to and including 11,000 feet MSL within an area surrounding DFW and DAL, the descriptions of all other subareas that make up the Dallas/Fort Worth Class B airspace area are reconfigured, re-described, and realigned by geographic position in relation to the point of origin, rather than the previous practice of combining geographically separate areas that share a common altitude floor into one large, complex subarea description. This action modifies the original eight Dallas/Fort Worth Class B subareas (A through H) and adds six new subareas (I through N). The modifications to the Dallas/Fort Worth Class B airspace, by subarea, are outlined below.

Area A. Area A is the surface area that extends from the surface up to 11,000 feet MSL. The FAA is incorporating an exclusion of the airspace located southwest of DFW bounded by the surface area boundary, State Highway 10, and the western boundary of the Texas Star Golf Course, from the surface to an including 1,500 feet MSL, in this portion of Class B airspace.

Area B. Area B extends upward from 2,000 feet MSL to 11,000 feet MSL in the Class B airspace contained in the previous Area B description that is located north, west, and south of DFW. The FAA is not changing this portion of Class B airspace.

Area C. Area C extends upward from 2,000 feet MSL to 11,000 feet MSL in the remaining Class B airspace contained in the previous Area B description that is located east of DFW. The FAA is not changing this portion of Class B airspace.

Area D. Area D is a new area extending upward from 2,000 feet MSL to 11,000 feet MSL located southeast of DAL from the Cowboy VOR/DME (CVE) 117° radial clockwise to the 129° bearing from the Point of Origin, between 15-NM and 20-NM of the Point of Origin. This new area lowers a portion of Class B airspace contained in the previous Area C description, located south of the CVE 117° radial, by 500 feet to overcome aircraft arriving DAL runways 31R and 31L from the southeast exiting the bottom of Class B airspace with a 2,500-foot MSL floor, flying under the Class B airspace area, and then reentering the side of the Class B airspace surface area.

Area E. Area E extends upward from 2,500 feet MSL to 11,000 feet MSL in the remaining Class B airspace contained in the previous Area C description that is not incorporated in the new Area D described above. The FAA is not changing this portion of Class B airspace.

Area F. Area F is a new area extending upward from 2,500 feet MSL to 11,000 feet MSL located northeast of DFW from the 023° bearing from the Point of Origin clockwise to Interstate I-635, between 10-NM and 13-NM of the Point of Origin. This new area lowers a portion of Class B airspace contained in the previous Area D description, located northeast of DFW, by 500 feet to overcome aircraft arriving DAL runways 13R and 13L from the northeast exiting the bottom of Class B airspace with a 3,000-foot MSL floor, flying through the ADS Class D airspace, and then reentering the side of Class B airspace with a 2,000-foot MSL floor or the side of the Class B airspace surface area.

Area G. Area G extends upward from 3,000 feet MSL to 11,000 feet MSL in the Class B airspace contained in the previous Area D description that is located south of DFW. The FAA is not changing this portion of Class B airspace.

Area H. Area H extends upward from 3,000 feet MSL to 11,000 feet MSL in the remaining Class B airspace contained in the previous Area D description that is located north of DFW and not incorporated in the new Area F described above. The FAA is not changing this portion of Class B airspace.

Area I. Area I is a new area extending upward from 3,000 feet MSL to 11,000 feet MSL located southeast of DAL from the Cowboy VOR/DME (CVE) 117° radial clockwise to the 129° bearing from the Point of Origin, between 20-NM and 25-NM of the Point of Origin. This new area lowers a portion of Class B airspace contained in the previous Area E description by 1,000 feet to overcome aircraft arriving DAL runways 31R and 31L from the southeast exiting the bottom of Class B airspace with a 4,000-foot MSL floor, flying under the Class B airspace area, and then reentering the side of Class B airspace with a 2,500-foot MSL floor.

Area J. Area J extends upward from 4,000 feet MSL to 11,000 feet MSL in the remaining Class B airspace contained in the previous Area E description that is not incorporated in the new Area I described above and a portion of Class B airspace contained in the previous Area G description, located northwest of the 311° bearing from the Point of Origin. This new area lowers the portion of Class B airspace contained in the previous Area G description by 1,000 feet to overcome aircraft arriving DFW runways 13R and 13L from the northwest exiting the bottom of the Class B airspace with a 5,000-foot MSL floor, flying under the Class B airspace area, and then reentering the side of the Class B airspace with a 4,000-foot MSL floor.

Area K. Area K extends upward from 4,000 feet MSL to 10,000 feet MSL in the Class B airspace contained in the previous Area F description that is located south of DFW. The FAA is not changing this portion of Class B airspace.

Area L. Area L extends upward from 4,000 feet MSL to 10,000 feet MSL in the remaining Class B airspace contained in the previous Area F description that is located north of DFW. The FAA is extending the northern boundary further north to intercept the southern-most point of the Ray Roberts Lake dam for visual reference.

Area M. Area M extends upward from 5,000 feet MSL to 11,000 feet MSL in the remaining portion of Class B airspace contained in the current Area G that is not incorporated in the new Area J described above. The FAA is not changing this portion of Class B airspace.

Area N. Area N extends upward from 6,000 feet MSL to 11,000 feet MSL in the Class B airspace contained in the previous Area H description. The FAA is not changing this Class B airspace.

Finally, this action updates the DFW airport reference point (ARP) coordinates and includes the Cowboy VOR/DME (CVE) navigation aid information in the Class B airspace legal description to reflect current National Airspace System data.

Implementation of these modifications to the Dallas/Fort Worth Class B airspace area ensure the containment of instrument procedures and large turbine-powered aircraft flying those procedures within Class B airspace, as required by FAA directives, and enhance the efficient use of the airspace, the management of aircraft operations, and flight safety in the DFW and DAL terminal area.

All radials and bearings listed in the Dallas/Fort Worth Class B airspace description in this rule are stated in degrees relative to True North. Additionally, all geographic coordinates are stated in degrees, minutes, and seconds based on North American Datum 83.

Class B airspace areas are published in paragraph 3000 of FAA Order 7400.9X, Airspace Designations and Reporting Points, dated August 7, 2013, and effective September 15, 2013, which is incorporated by reference in 14 CFR section 71.1. The Class B airspace area listed in this document would be published subsequently in the Order.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507 (d)) requires that the FAA consider the impact of paperwork and other information collection burdens imposed on the public. We have determined that there is no new information collection requirement associated with this final rule.

Regulatory Evaluation Summary

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

The FAA has, therefore, determined that this final rule is not a “significant regulatory action” as defined in section 3(f) of Executive Order 12866, and is not “significant” as defined in DOT's Regulatory Policies and Procedures.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this final rule. The reasoning for this determination follows.

This action proposes to modify the DFW Class B airspace area to ensure the containment of large turbine-powered aircraft flying instrument procedures to and from the Dallas/Fort Worth International Airport and Dallas Love Field Airport within Class B airspace, reduce controller workload and reduce the potential for near midair collision in the DFW terminal area. This action lowers the Class B airspace floor in some sections to encompass existing IFR traffic. Lowering the floor of the Class B airspace will increase safety by segregating large turbine-powered aircraft from aircraft that may not be in contact with ATC. It will reduce air traffic controller workload by reducing the number of radio communications that air traffic controllers must use to inform IFR aircraft when they are leaving and re-entering Class B airspace. This will reduce the amount of distraction that air traffic controllers face in issuing these communications and free radio time for more important control instructions. IFR traffic will not be rerouted as a result of this proposal.

The airspace restructuring will result in safety benefits and increased operational efficiencies. This final rule will enhance safety by reducing the number of aircraft entering, exiting, and reentering Class B airspace and consequently reducing air traffic controller workload and radio frequency congestion. By expanding the Class B area where aircraft are subject to certain operating rules and equipment requirements this final rule will also reduce the potential for midair collisions. The modification of the Class B airspace will provide operational advantages as well by establishing necessary airspace for controllers to sequence aircraft within Class B airspace and thereby reduce the need for controllers to vector arrivals and departures to avoid nonparticipating traffic. The change may cause some VFR pilots to have to choose between flying below Class B airspace, circumnavigating the Class B airspace area, or requesting Class B clearance to transition the area. If these responses occur then some alternative routes will be longer, take more time, and burn more fuel. However, due to the specific restructuring, we do not anticipate that such VFR flights will have to travel far to circumnavigate the new Class B airspace.

The FAA expects an increase in safety and some operational efficiencies from the larger Class B airspace to be offset slightly by possible VFR reroutings, which will result in minimal cost overall. This final rule will not require updating of materials outside the normal update cycle, and will not require rerouting of IFR traffic. The expected outcome will be a minimal impact with positive net benefits.

The FAA did request comments about the FAA determination of minimal impact in the NPRM. The FAA received no comments on this determination of minimal impact in the NPRM.

Although the FAA received no comments specifically related to the above determination several commenters, as described earlier in this Preamble, expressed a concern about possible adverse economic impacts, including an increase in aircraft noise as a result of the proposed rule. As discussed earlier in this preamble, these perceived impacts appear to be based on the belief that the Class B airspace modification would lead to an increased number of IFR and VFR flights operating at lower altitudes than they do today. The FAA finds that existing DAL IFR arrival and departure altitudes, flight paths, traffic patterns and procedures will not change. As noted in the NPRM, the Area F modification will continue to support IFR and VFR aircraft arriving and departing ADS as they do today without compression and ensure large turbine-powered aircraft flying instrument procedures to DAL runways 13L/13R are contained within Class B airspace.

Therefore, the FAA expects that the outcome of this final rule will be a minimal impact with positive benefits.

Final Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

As stated in the NPRM, the proposed rule would improve safety and efficiency by redefining Class B airspace boundaries and would have imposed only minimal costs because it would not have required rerouting of IFR traffic, could possibly have caused some VFR aircraft to travel alternative routes that were not expected to be appreciably longer than with the current airspace design, and would not have required updating of materials outside the normal update cycle. Therefore, the expected outcome would have been a minimal economic impact on small entities affected by the proposed rulemaking action.

In the NPRM, the FAA certified that the proposed rule would not have a significant impact on a substantial number of small entities. The FAA solicited comments regarding this determination in the NPRM. Specifically, the FAA requested comments on whether the proposed rule would create any specific compliance costs unique to small entities with detailed economic analysis to support any cost claims. The FAA also invited comments regarding other small entity concerns with respect to the proposed rule. The FAA received no comments on this determination.

If an agency determines that a rulemaking will not result in a significant economic impact on a substantial number of small entities, the head of the agency may so certify under section 605(b) of the RFA. Therefore, as provided in section 605(b), the head of the FAA certifies that this rulemaking will not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA assessed the potential effect of the proposed rule in the NPRM and determined that it would have only a domestic impact and therefore no effect on international trade. The FAA received no comments on this determination.

Therefore the FAA determines that this final rule will have only a domestic impact and therefore no effect on international trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $151.0 million in lieu of $100 million. This final rule does not contain such a mandate; therefore, the requirements of Title II of the Act do not apply.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIRWAYS; ROUTES, AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013, is amended as follows:

Paragraph 3000 Class B Airspace.

* * * * *

ASW TX B Dallas/Fort Worth, TX

Dallas/Fort Worth International Airport (Primary Airport)

(Lat. 32°53′49″ N., long. 97°02′17″ W.)

Point of Origin

(Lat. 32°51′57″ N., long. 97°01′41″ W.)

Cowboy VOR/DME (CVE)

(Lat. 32°53′25″ N., long. 96°54′14″ W.)

Boundaries

Area A. That airspace extending upward from the surface to and including 11,000 feet MSL within an area bounded by a line beginning at the intersection of the 10-NM radius from the Point of Origin and Josey Lane at lat. 32°59′08″ N., long. 96°53′26″ W., thence southbound along Josey Lane to intersect Forest Lane at lat. 32°54′34″ N., long. 96°52′54″ W., thence eastbound along Forest Lane to intersect the 15-NM radius from the Point of Origin at lat. 32°54′33″ N., long. 96°44′07″ W., thence clockwise along the 15-NM radius to intersect the 129° bearing from the Point of Origin at lat. 32°42′29″ N., long. 96°47′52″ W., thence northwest along the 129° bearing to intersect I-30 at lat. 32°46′04″ N., long. 96°53′07″ W., thence west along I-30 to intersect the 7-NM radius from the Point of Origin at lat. 32°45′34″ N., long. 97°05′07″ W., thence clockwise along the 7-NM radius to intersect the 310° bearing from the Point of Origin at lat. 32°56′27″ N., long. 97°08′03″ W., thence northwest along the 310° bearing to intersect the 10-NM radius from the Point of Origin at lat. 32°58′23″ N., long. 97°10′47″ W., thence clockwise along the 10-NM radius to the point of beginning; excluding that airspace extending upward from the surface to and including 1,500 feet MSL within the area bounded by a line beginning at the intersection of the 7-NM radius from the Point of Origin and State Highway 10 at lat. 32°48′39″ N., long. 97°09′01″ W.; thence eastbound along State Highway 10 to lat. 32°49′22″ N., long. 97°07′03″ W.; thence south to intersect the 7-NM radius from the Point of Origin at lat. 32°46′38″ N., long. 97°07′06″ W.; thence clockwise along the 7-NM radius from the Point of Origin to State Highway 10 at lat. 32°48′39″ N., long. 97°09′01″ W.

Area B. That airspace extending upward from 2,000 feet MSL to and including 11,000 feet MSL within an area bounded by a line beginning at the intersection of the 10-NM radius from the Point of Origin and the 310° bearing from the Point of Origin at lat. 32°58′23″ N., long. 97°10′47″ W., thence southeast along the 310° bearing to intersect the 7-NM radius from the Point of Origin at lat. 32°56′27″ N., long. 97°08′03″ W., thence counterclockwise along the 7-NM radius to intersect I-30 at lat. 32°45′34″ N., long. 97°05′07″ W., thence east along I-30 to intersect the 129° bearing from the Point of Origin at lat. 32°46′04″ N., long. 96°53′07″ W., thence southeast on the 129° bearing to intersect the 10-NM radius from the Point of Origin at lat. 32°45′38″ N., long. 96°52′28″ W., thence clockwise along the 10-NM radius to intersect SH-303 at lat. 32°42′23″ N., long. 96°58′18″ W., thence west along SH-303 to intersect the 10-NM radius from the Point of Origin at lat. 32°42′29″ N., long. 97°05′30″ W., thence clockwise along the 10-NM radius to intersect the 300° bearing from the Point of Origin at lat. 32°56′57″ N., long. 97°11′58″ W., thence northwest along the 300° bearing to intersect the 13-NM radius from the Point of Origin at lat. 32°58′27″ N., long. 97°15′04″ W., thence clockwise along the 13-NM radius to intersect the 023° bearing from the Point of Origin at lat. 33°03′56″ N., long. 96°55′38″ W., thence southwest along the 023° bearing to intersect the 10-NM radius from the Point of Origin at lat. 33°01′10″ N., long. 96°57′02″ W., thence counterclockwise along the 10-NM radius to the point of beginning.

Area C. That airspace extending upward from 2,000 feet MSL to and including 11,000 feet MSL within an area bounded by a line beginning at the intersection of the 10-NM radius from the Point of Origin and Josey Lane at lat. 32°59′08″ N., long. 96°53′26″ W., thence southbound along Josey Lane to intersect Forest Lane at lat. 32°54′34″ N., long. 96°52′54″ W., thence eastbound along Forest Lane to intersect the 15-NM radius from the Point of Origin at lat. 32°54′33″ N., long. 96°44′07″ W., thence counter-clockwise along the 15-NM radius to intersect I-635 at lat. 32°54′42″ N., long. 96°44′09″ W., thence west along I-635 to intersect the 10-NM radius from the Point of Origin at lat. 32°55′25″ N., long. 96°50′32″ W., thence counterclockwise along the 10-NM radius to the point of beginning.

Area D. That airspace extending from 2,000 feet MSL up to and including 11,000 feet MSL within an area bounded by a line beginning at the intersection of the CVE 117° radial and the 15-NM radius from the Point of Origin at lat. 32°49′06″ N., long. 96°44′12″ W., thence clockwise along the 15-NM radius to intersect the 129° bearing from the Point of Origin at lat. 32°42′29″ N., long. 96°47′52″ W., thence southeast along the 129° bearing to intersect the 20-NM radius from the Point of Origin at lat. 32°39′19″ N., long. 96°43′16″ W., thence counterclockwise along the 20-NM radius to intersect the CVE 117° radial at lat. 32°46′45″ N., long. 96°38′46″ W., thence northwest along the CVE 117° radial to the point of beginning.

Area E. That airspace extending upward from 2,500 feet MSL to and including 11,000 feet MSL within an area bounded by a line beginning at the intersection of I-635 and the 15-NM radius from the Point of Origin at lat. 32°54′42″ N., long. 96°44′09″ W., thence clockwise along the 15-NM radius to intersect the CVE 117° radial at lat. 32°49′06″ N., long. 96°44′12″ W., thence southeast along the CVE 117° radial to intersect the 20-NM radius from the Point of Origin at lat. 32°46′45″ N., long. 96°38′46″ W., thence counterclockwise along the 20-NM radius to intersect I-635 at lat. 32°50′40″ N., long. 96°38′03″ W., thence northwest along I-635 to the point of beginning.

Area F. That airspace extending upward from 2,500 feet MSL, to and including 11,000 feet MSL within an area bounded by a line beginning at the intersection of the 023° bearing from the Point of Origin and the 13-NM radius from the Point of Origin at lat. 33°03′56″ N., long. 96°55′38″ W., thence clockwise along the 13-NM radius to intersect I-635 at lat. 32°55′26″ N., long. 96°46′49″ W., thence west along I-635 to intersect the 10-NM radius from the Point of Origin at lat. 32°55′25″ N., long. 96°50′32″ W., thence counterclockwise along the 10-NM radius to intersect the 023° bearing from the Point of Origin at lat. 33°01′10″ N., long. 96°57′02″ W., thence northeast along the 023° bearing to the point of beginning.

Area G. That airspace extending upward from 3,000 feet MSL to and including 11,000 feet MSL within an area bounded by a line beginning at the intersection of the 300° bearing from the Point of Origin and the 10-NM radius from the Point of Origin at lat. 32°56′57″ N., long. 97°11′58″ W., thence counterclockwise along the 10-NM radius to intersect SH-303 at lat. 32°42′29″ N., long. 97°05′30″ W., thence east along SH-303 to intersect the 10-NM radius from the Point of Origin at lat. 32°42′23″ N., long. 96°58′18″ W., thence counterclockwise along the 10-NM radius to intersect the 129° bearing from the Point of Origin at lat. 32°45′38″ N., long. 96°52′28″ W., thence southeast along the 129° bearing to intersect the 20-NM radius from the Point of Origin at lat. 32°39′19″ N., long. 96°43′16″ W., thence clockwise along the 20-NM radius to intersect the 217° bearing from the Point of Origin at lat. 32°35′56″ N., long. 97°15′56″ W., thence northeast along the 217° bearing to intersect the 13-NM radius from the Point of Origin at lat. 32°41′32″ N., long. 97°10′57″ W., thence clockwise along the 13-NM radius to intersect the 300° bearing from the Point of Origin at lat. 32°58′27″ N., long. 97°15′04″ W., thence southeast along the 300° bearing to the point of beginning.

Area H. That airspace extending upward from 3,000 feet MSL to and including 11,000 feet MSL within an area bounded by a line beginning at the intersection of the 13-NM radius from the Point of Origin and the 300° bearing from the Point of Origin at lat. 32°58′27″ N., long. 97°15′04″ W., thence northwest along the 300° bearing to intersect the 20-NM radius from the Point of Origin at lat. 33°01′56″ N., long. 97°22′17″ W., thence clockwise along the 20-NM radius to intersect I-635 at lat. 32°50′40″ N., long. 96°38′03″ W., thence northwest along I-635 to intersect the 13-NM radius from the Point of Origin at lat. 32°55′26″ N., long. 96°46′49″ W., thence counterclockwise along the 13-NM radius to the point of beginning.

Area I. That airspace extending upward from 3,000 feet MSL to and including 11,000 feet MSL within an area bounded by a line beginning at the intersection of the 20- NM radius from the Point of Origin and the 129° bearing from the Point of Origin at lat. 32°39′19″ N., long. 96°43′16″ W., thence southeast along the 129° bearing to intersect the 25- NM radius from the Point of Origin at lat. 32°36′09″ N., long. 96°38′41″ W., thence counterclockwise along the 25- NM radius to intersect the CVE 117° radial at lat. 32°44′25″ N., long. 96°33′24″ W., thence northwest along the CVE 117° radial to intersect the 20- NM radius from the Point of Origin at lat. 32°46′45″ N., long. 96°38′46″ W., thence clockwise along the 20- NM radius to the point of beginning.

Area J. That airspace extending upward from 4,000 feet MSL to and including 11,000 feet MSL within an area bounded by a line beginning at the intersection of the 217° bearing from the Point of Origin and the 20- NM radius from the Point of Origin at lat. 32°35′56″ N., long. 97°15′56″ W., thence counterclockwise along the 20- NM radius to intersect the 129° bearing from the Point of Origin at lat. 32°39′19″ N., long. 96°43′16″ W., thence southeast along the 129° bearing to intersect the 25- NM radius from the Point of Origin at lat. 32°36′09″ N., long. 96°38′41″ W., thence counterclockwise along the 25- NM radius to intersect the CVE 117° radial at lat. 32°44′25″ N., long. 96°33′24″ W., thence northwest along the CVE 117° radial to intersect the 20- NM radius from the Point of Origin at lat. 32°46′45″ N., long. 96°38′46″ W., thence counterclockwise along the 20- NM radius to intersect the 300° bearing from the Point of Origin at lat. 33°01′56″ N., long. 97°22′17″ W., thence southeast along the 300° bearing to intersect the 13- NM radius from the Point of Origin at lat. 32°58′27″ N., long. 97°15′04″ W., thence counterclockwise along the 13- NM radius to intersect the 217° bearing from the Point of Origin at lat. 32°41′32″ N., long. 97°10′57″ W., thence southwest along the 217° bearing to intersect the 20- NM radius from the Point of Origin at lat. 32°35′56″ N., long. 97°15′56″ W., thence clockwise along the 20- NM radius to intersect I-20 at lat. 32°39′56″ N., long. 97°20′39″ W., thence west along I-20 to intersect I-820 at lat. 32°41′51″ N., long. 97°28′14″ W., thence north along I-820 to intersect the 23- NM radius from the Point of Origin at lat. 32°46′46″ N., long. 97°28′17″ W., thence clockwise along the 23- NM radius to intersect the 311° bearing from the Point of Origin at lat. 33°07′02″ N., long. 97°22′21″ W., thence northwest along the 311° bearing to intersect the 30- NM radius from the Point of Origin at lat. 33°11′37″ N., long. 97°28′40″ W., thence clockwise along the 30- NM radius to intersect the 315° bearing from the Point of Origin at lat. 33°13′10″ N., long. 97°26′58″ W., thence east to the intersection of the 041° bearing of the Point of Origin and the 30- NM radius from the Point of Origin at lat. 33°14′36″ N., long. 96°38′13″ W., thence clockwise along the 30- NM radius to intersect the 138° bearing from the Point of Origin at lat. 32°29′34″ N., long. 96°37′57″ W., thence west to the intersection of the 217° bearing from the Point of Origin and the 28.3 NM radius from the Point of Origin at lat. 32°29′17″ N., long. 97°21′49″ W., thence northeast along the 217° bearing to the point of beginning.

Area K. That airspace extending upward from 4,000 feet MSL to and including 10,000 feet MSL within an area bounded by a line beginning at the intersection of the 138° bearing from the Point of Origin and the 30- NM radius from the Point of Origin at lat. 32°29′34″ N., long. 96°37′57″ W., thence clockwise along the 30- NM radius to intersect the 149° bearing from the Point of Origin at lat. 32°26′10″ N., long. 96°43′26″ W., thence west to the intersection of the 210° bearing from the Point of Origin and the 30- NM radius from the Point of Origin at lat. 32°25′54″ N., long. 97°19′24″ W., thence clockwise along the 30- NM radius to intersect the 217° bearing from the Point of Origin at lat. 32°27′55″ N., long. 97°23′01″ W., thence northeast along the 217° bearing to intersect the 28.3- NM radius from the Point of Origin at lat. 32°29′17″ N., long. 97°21′49″ W., thence east to the point of beginning.

Area L. That airspace extending upward from 4,000 feet MSL to and including 10,000 feet MSL within an area bounded by a line beginning at the intersection of the 315° bearing from the Point of Origin and the 30- NM radius from the Point of Origin at lat. 33°13′10″ N., long. 97°26′58″ W., thence clockwise along the 30- NM radius to the intersection of the 30- NM radius from the Point of Origin and the 344° bearing from the Point of Origin at lat. 33°20′50″ N., long. 97°11′33″ W., thence east to the intersection of the 012° bearing from the Point of Origin and the 30- NM radius from the Point of Origin at lat. 33°21′21″ N., long. 96°54′14″ W., thence clockwise along the 30- NM radius to intersect the 041° bearing from the Point of Origin at lat. 33°14′36″ N., long. 96°38′13″ W., thence west to the point of beginning.

Area M. That airspace extending upward from 5,000 feet MSL up to and including 11,000 feet MSL within an area bounded by a line beginning at the intersection of the 311° bearing from the Point of Origin and the 30- NM radius from the Point of Origin at lat. 33°11′37″ N., long. 97°28′40″ W., thence counterclockwise along the 30- NM radius to intersect the 293° bearing from the Point of Origin at lat. 33°03′37″ N., long. 97°34′32″ W., thence southeast along the 293° bearing to intersect the 26- NM radius from the Point of Origin at lat. 32°02′04″ N., long. 97°30′09″ W., thence counterclockwise along the 26- NM radius to intersect SH-377 at lat. 32°39′49″ N., long. 97°28′58″ W., thence southwest along SH-377 to intersect the 30- NM radius from the Point of Origin at lat. 32°36′56″ N., long. 97°32′26″ W., thence counterclockwise along the 30- NM radius to intersect the 217° bearing from the Point of Origin at lat. 32°27′55″ N., long. 97°23′01″ W., thence northeast along the 217° bearing to intersect the 20- NM radius from the Point of Origin at lat. 32°35′56″ N., long. 97°15′56″ W., thence clockwise along the 20- NM radius to intersect I-20 at lat. 32°39′56″ N., long. 97°20′38″ W., thence west along I-20 to intersect I-820 at lat. 32°41′51″ N., long. 97°28′14″ W., thence north along I-820 to intersect the 23- NM radius from the Point of Origin at lat. 32°46′46″ N., long. 97°28′17″ W., thence clockwise along the 23- NM radius to intersect the 311° bearing from the Point of Origin at lat. 33°07′02″ N., long. 97°22′21″ W., thence northwest along the 311° bearing to the point of beginning.

Area N. That airspace extending upward from 6,000 feet MSL to and including 11,000 feet MSL within an area bounded by a line beginning at the intersection of the 30- NM radius from the Point of Origin and the 293° bearing from the Point of Origin at lat. 33°03′37″ N., long. 97°34′32″ W., thence southeast along the 293° bearing to intersect the 26- NM radius from the Point of Origin at lat. 33°02′04″ N., long. 97°30′09″ W., thence counterclockwise along the 26- NM radius to intersect SH-377 at lat. 32°39′49″ N., long. 97°28”58” W., thence southwest along SH-377 to intersect the 30- NM radius from the Point of Origin at lat. 32°36′56″ N., long. 97°32′26″ W., thence clockwise along the 30- NM radius to the point of beginning.

* * * * *

Issued in Washington, DC, on January 10, 2014.
Gary A. Norek,
Manager, Airspace Policy and Regulations Group.

BILLING CODE 4910-13-P

[FR Doc. 2014-00941 Filed 1-17-14; 8:45 am]

BILLING CODE 4910-13-C